DEPARTMENT OF TRANSPORTATION

Office of the Secretary

[Docket No. DOT-OST-2022-0035]

Privacy Act of 1974; Department of Transportation (DOT), Federal Motor Carrier Safety Administration (FMCSA); DOT/FMCSA 013 Safe Driver Apprenticeship Pilot (SDAP)

AGENCY: Federal Motor Carrier Safety Administration (FMCSA), Department of Transportation (DOT).

ACTION: Notice of a New System of Records.

SUMMARY: In accordance with the Privacy Act of 1974, the Department of Transportation (DOT) proposes a new system of records titled “Safe Driver Apprenticeship Pilot” (SDAP) Program. This system of records will allow DOT to collect and maintain records on safety performance and driving profiles of certain Commercial Motor Vehicle (CMV) drivers voluntarily participating in the SDAP program and receiving an exemption to operate in interstate commerce before reaching the age of 21. The information in the system will be used to analyze the safety performance of apprenticeship drivers as compared to current CMV drivers operating in intra- or inter-state commerce under current FMCSA regulations. This system maintains records on carriers, experienced drivers, and apprentice drivers who volunteer to participate in the SDAP. Records on carriers and experienced drivers are limited to those necessary to verify qualifications for participation, while records on apprentice drivers include safety, performance, and exposure data throughout their participation as an apprentice.

DATES: Comments on the system will be accepted on or before 30 days from the date of publication of this notice. The system will be effective 30 days after publication of this notice. Routine uses will be effective at that time.

ADDRESSES: You may submit comments, identified by docket number OST-2022-0035 by one of the following methods:

• Federal e-Rulemaking Portal: https://www.regulations.gov. Follow the instructions for submitting comments.

• Fax: (202) 366-XXXX.

• Mail: Department of Transportation Docket Management, Room W12-140, 1200 New Jersey Ave. SE, Washington, DC 20590.

• Hand Delivery or Courier: West Building Ground Floor, Room W12-140, 1200 New Jersey Ave. SE, between 9 a.m. and 5 p.m. ET, Monday through Friday, except Federal Holidays.

• Instructions: You must include the agency name and docket number OST-2022-0035. All comments received will be posted without change to https://www.regulations.gov, including any personal information provided. In order to facilitate comment tracking and response, we encourage commenters to provide their name, or the name of their organization; however, submission of names is completely optional. Whether or not commenters identify themselves, all timely comments will be fully considered. If you wish to provide comments containing proprietary or confidential information, please contact the agency for alternate submission instructions.

Privacy Act: Anyone is able to search the electronic form of all comments received in any of our dockets by the name of the individual submitting the comment (or signing the comment, if submitted on behalf of an association, business, labor union, etc.). You may review the DOT's complete Privacy Act Statement in the Federal Register published on January 17, 2008 (73 FR 3316-3317), or you may visit https://DocketsInfo.dot.gov.

Docket: For access to the docket to read background documents or comments received, go to https://www.regulations.gov or to the street address listed above. Follow the online instructions for accessing the docket.

FOR FURTHER INFORMATION CONTACT: For system-related questions please contact: Nicole Michel, Mathematical Statistician, Department of Transportation, FMCSA, W68-310, 1200 New Jersey Ave. SE, Washington, DC 2-590. Email: Nicole.michel@dot.gov, Tel. (202) 366-4354. For general and privacy questions, please contact: Karyn Gorman, Acting Departmental Chief Privacy Officer, Department of Transportation, S-81, Washington, DC 20590, Email: privacy@dot.gov, Tel. (202) 366-3140.

SUPPLEMENTARY INFORMATION:

Background

In accordance with the Privacy Act of 1974, DOT is proposing a new system of records notice (SORN) titled “Department of Transportation (DOT)/Federal Motor Carrier Safety Administration (FMCSA)—013, Safe Driver Apprenticeship Pilot (SDAP)” to allow FMCSA to implement the “Safe Driver Apprenticeship Pilot” (SDAP) program to fulfill the requirements of Section 23022 of the Infrastructure Investment and Jobs Act (IIJA). This system will collect and maintain records on participating apprentice drivers to analyze safety and performance outcomes of participating apprentices. Apprentices must have a valid commercial driver's license (CDL) and be of age 18, 19, or 20 to voluntarily participate in the program. The data collected on these drivers will be analyzed for safety and performance as compared to existing data on comparative groups of drivers (under-21 intrastate as well as over-21 interstate existing CMV operators).

This system will also collect information on experienced drivers to verify their eligibility to serve as an experienced driver but will not collect safety and performance data for experienced drivers.

Carriers will apply to participate in the program by providing their carrier name, USDOT number, physical address, phone number, email address, fleet size, type of operation (interstate vs intrastate), types of drivers employed (class A, class B, and/or class C), turnover rate, states traveled through, pay structure, annual miles traveled, an estimate on the number of experienced drivers and apprentices the carrier will enroll, their registered apprenticeship number with Department of Labor, carrier operation types, types of CMVs employed, and information regarding currently utilized technologies (Electronic Logging Devices [ELDs], Onboard Monitoring Systems [OBMS], and Video Recording systems). Carrier applications will be reviewed against published eligibility requirements. Carriers will be notified of whether or not they are accepted into the program by FMCSA. Accepted carriers will be required to attend a webinar to review participation requirements.

Privacy Act

The Privacy Act embodies fair information practice principles in a statutory framework governing the means by which Federal Government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. Additionally, the Judicial Redress Act (JRA) provides a covered person with a statutory right to make requests for access and amendment to covered records, as defined by the JRA, along with judicial review for denials of such requests. The JRA also prohibits disclosures of covered records, except as otherwise permitted by the Privacy Act. Below is the description of the Safe Driver Apprenticeship Pilot Program System of Records. In accordance with 5 U.S.C. 552a(r), DOT has provided a report of this system of records to the OMB and to Congress.

SYSTEM NAME AND NUMBER:

DOT/FMCSA 013—Safe Driver Apprenticeship Pilot (SDAP).

SECURITY CLASSIFICATION:

Unclassified.

SYSTEM LOCATION:

Records are maintained by a contractor, the contract for the system is maintained at FMCSA Headquarters, 1200 New Jersey Ave SE, Washington, DC 20590.

SYSTEM MANAGER(S):

For FMCSA, the System Manager is Nicole Michel, Mathematical Statistician, 1200 New Jersey Ave SE, Washington, DC, 20590. Email: SafeDriver@dot.gov.

AUTHORITY FOR MAINTENANCE OF THE SYSTEM:

49 U.S.C. 31315; Section 23022 of the Infrastructure Investment and Jobs Act (P.L. 117-58, Nov. 15, 2021).

PURPOSE(S) OF THE SYSTEM:

The purpose of the system is to collect data on carriers and drivers participating in the SDAP. The data collected will be used to determine the safety benefits or risks posed by implementing an apprenticeship program for drivers under the age of 21 to operate in interstate commerce. Data will be collected to verify qualifications for participation, to issue the necessary exemptions for carriers and drivers to participate in the SDAP program, and to monitor operational and safety performance throughout participation.

CATEGORIES OF INDIVIDUALS COVERED BY THE SYSTEM:

The system of records will include information about motor carriers who voluntarily apply to participate in the SDAP, current CDL holders who apply to participate as “experienced drivers,” and drivers who apply to participate as apprentices, i.e., 18- to 20-year-old CMV operators who are voluntarily participating in the SDAP to operate in interstate commerce. These categories can be characterized as:

1. Motor Carriers,

2. Experienced Drivers, and

3. Apprentice Drivers.

All individuals covered by this system must voluntarily apply to participate in the SDAP.

CATEGORIES OF RECORDS IN THE SYSTEM:

The SDAP will collect, process, transmit, and store the following types of information on all individuals covered by this system:

1. Basic Identifying Information (e.g., name, address, USDOT number of carriers or CDL number and State of Issuance for drivers) for all individuals.

The SDAP will collect, process, transmit, and store the following types of information on motor carriers only:

1. Operational Profile Information (e.g., vehicle classes operated, fleet size, average annual miles traveled, types of carrier operations, types of CMVs employed)

2. A valid Department of Labor Registered Apprenticeship number

The SDAP will collect, process, transmit, and store the following types of information on experienced drivers only:

1. Employment history for the past two years (e.g., employer name, USDOT number, dates of employment)

2. Qualifications and CMV Experience (e.g., date CDL was acquired, total years driving a CMV, safety incidents in the past two years).

The SDAP will collect, process, transmit, and store the following types of information on apprentice drivers only:

1. Training and employment history (e.g., date CDL was acquired, past driving experience if applicable, and current operating profile if applicable)

2. Safety Performance Benchmarks (i.e., verification of completion of safety performance benchmarks)

3. Exposure data throughout participation (e.g., miles traveled, hours on duty, hours away from home station)

4. Safety data throughout participation (e.g., safety events such as hard braking or swerving, crashes, inspections)

Additionally, the SDAP will collect, process, transmit, and store information on acceptance letters, letters of disqualification, exemption letters, and other official correspondence throughout the pilot program.

RECORD SOURCE CATEGORIES:

Records are obtained from motor carriers that volunteer to participate in the pilot program and are accepted for participation into the pilot program by FMCSA. Additionally, individuals who volunteer to participate in the pilot program will submit applications through the motor carrier and the motor carrier will submit monthly data on apprentice drivers. Records will also be generated by the Department and retrieved from existing data sources, such as the Commercial Driver License Information System (CDLIS) and the Motor Carrier Management Information System (MCMIS).

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside DOT as a routine use pursuant to 5 U.S.C. 552a(b)(3) as follows:

System-Specific Routine Uses—None.

Department General Routine Uses

1. In the event that a system of records maintained by DOT to carry out its functions indicates a violation or potential violation of law, whether civil, criminal or regulatory in nature, and whether arising by general statute or particular program pursuant thereto, the relevant records in the system of records may be referred, as a routine use, to the appropriate agency, whether Federal, State, local or foreign, charged with the responsibility of investigating or prosecuting such violation or charged with enforcing or implementing the statute, or rule, regulation, or order issued pursuant thereto.

2a. Routine Use for Disclosure for Use in Litigation. It shall be a routine use of the records in this system of records to disclose them to the Department of Justice or other federal agency conducting litigation when—(a) DOT, or any agency thereof, or (b) Any employee of DOT or any agency thereof, in his/her official capacity, or (c) Any employee of DOT or any agency thereof, in his/her individual capacity where the Department of Justice has agreed to represent the employee, or (d) The United States or any agency thereof, where DOT determines that litigation is likely to affect the United States, is a party to litigation or has an interest in such litigation, and the use of such records by the Department of Justice or other federal agency conducting the litigation is deemed by DOT to be relevant and necessary in the litigation, provided, however, that in each case, DOT determines that disclosure of the records in the litigation is a use of the information contained in the records that is compatible with the purpose for which the records were collected.

2b. Routine Use for Agency Disclosure in Other Proceedings. It shall be a routine use of records in this system to disclose them in proceedings before any court or adjudicative or administrative body before which DOT or any agency thereof, appears, when—(a) DOT, or any agency thereof, or (b) Any employee of DOT or any agency thereof in his/her official capacity, or (c) Any employee of DOT or any agency thereof in his/her individual capacity where DOT has agreed to represent the employee, or (d) The United States or any agency thereof, where DOT determines that the proceeding is likely to affect the United States, is a party to the proceeding or has an interest in such proceeding, and DOT determines that use of such records is relevant and necessary in the proceeding, provided, however, that in each case, DOT determines that disclosure of the records in the proceeding is a use of the information contained in the records that is compatible with the purpose for which the records were collected.

3. Disclosure may be made to a Congressional office from the record of an individual in response to an inquiry from the Congressional office made at the request of that individual. In such cases, however, the Congressional office does not have greater rights to records than the individual. Thus, the disclosure may be withheld from delivery to the individual where the file contains investigative or actual information or other materials which are being used, or are expected to be used, to support prosecution or fines against the individual for violations of a statute, or of regulations of the Department based on statutory authority. No such limitations apply to records requested for Congressional oversight or legislative purposes; release is authorized under 49 CFR 10.35(9).

4. One or more records from a system of records may be disclosed routinely to the National Archives and Records Administration (NARA) in records management inspections being conducted under the authority of 44 U.S.C. 2904 and 2906.

5. DOT may make available to another agency or instrumentality of any government jurisdiction, including State and local governments, listings of names from any system of records in DOT for use in law enforcement activities, either civil or criminal, or to expose fraudulent claims, regardless of the stated purpose for the collection of the information in the system of records. These enforcement activities are generally referred to as matching programs because two lists of names are checked for match using automated assistance. This routine use is advisory in nature and does not offer unrestricted access to systems of records for such law enforcement and related antifraud activities. Each request will be considered on the basis of its purpose, merits, cost effectiveness and alternatives using Instructions on reporting computer matching programs to the Office of Management and Budget, OMB, Congress, and the public, published by the Director, OMB, dated September 20, 1989.

6. DOT may disclose records from this system, as a routine use, to appropriate agencies, entities, and persons when (1) DOT suspects or has confirmed that the security or confidentiality of information in the system of records has been compromised; (2) DOT has determined that as a result of the suspected or confirmed compromise there is a risk of harm to economic or property interests, identity theft or fraud, or harm to the security or integrity of this system or other systems or programs (whether maintained by DOT or another agency or entity) that rely upon the compromised information; and (3) the disclosure made to such agencies, entities, and persons is reasonably necessary to assist in connection with DOT's efforts to respond to the suspected or confirmed compromise and prevent, minimize, or remedy such harm.

7. DOT may disclose records from this system, as a routine use, to the Office of Government Information Services for the purpose of (a) resolving disputes between FOIA requesters and federal agencies and (b) reviewing agencies' policies, procedures, and compliance in order to recommend policy changes to Congress and the President.

8. DOT may disclose records from the system, as a routine use, to contractors and their agents, experts, consultants, and others performing or working on a contract, service, cooperative agreement, or other assignment for DOT, when necessary to accomplish an agency function related to this system of records.

9. DOT may disclose records from this system, as a routine use, to an agency, organization, or individual for the purpose of performing audit or oversight operations related to this system of records, but only such records as are necessary and relevant to the audit or oversight activity. This routine use does not apply to intra-agency sharing authorized under Section (b)(1) of the Privacy Act.

POLICIES AND PRACTICES FOR STORAGE OF RECORDS:

Records in this system are stored electronically on a contractor-maintained cloud storage service.

POLICIES AND PRACTICES FOR RETRIEVAL OF RECORDS:

Records are retrieved by carrier name, driver name, CDL number, or through the randomly generated participant ID assigned by the DOT contractor.

POLICIES AND PRACTICES FOR RETENTION AND DISPOSAL OF RECORDS:

Unscheduled records must be retained indefinitely pending the agency's submission, and NARA's approval, of a disposition schedule. DOT anticipates proposing to NARA, as an appropriate retention period for these records, two years or until no longer necessary for reference.

ADMINISTRATIVE, TECHNICAL, AND PHYSICAL SAFEGUARDS:

DOT safeguards records in this system according to applicable rules and policies, including all applicable DOT IT systems security and access policies. DOT has imposed strict controls to minimize the risk of information being compromised. Access to the records in this system is limited to those individuals who have a need to know the information in furtherance of the performance of their official duties, and who have appropriate clearances or permissions.

RECORD ACCESS PROCEDURES:

Individuals seeking access to and notification of any record contained in this system of records, or seeking to contest its content, may submit a request in writing to the System Manager at the address provided under “System Manager and Address” above. Individuals may also search the public docket at www.regulations.gov by their name.

When seeking records about yourself from this system of records or any other Departmental system of records, the request must conform with the Privacy Act regulations set forth in 49 CFR part 10. The individual's request must verify his/her identity by providing his/her full name, current address, and date and place of birth. The individual must sign the request, and the individual's signature must either be notarized or submitted under 28 U.S.C. 1746, a law that permits statements to be made under penalty of perjury as a substitute for notarization. No specific form is required.

In addition, the individual should:

• Explain why the individual believes the Department would have information on him/her;

• Identify which component(s) of the Department the individual believes may have the information about him/her;

• Specify when the individual believes the records would have been created; and

• Provide any other information that will help the FOIA staff determine which DHS component agency may have responsive records.

If an individual's request is seeking records pertaining to another living individual, the first individual must include a statement from the second individual certifying his/her agreement for the first individual to access his/her records. Without the above information, the component(s) may not be able to conduct an effective search, and the individual's request may be denied due to lack of specificity or lack of compliance with applicable regulations.

CONTESTING RECORD PROCEDURES:

For records covered by the Privacy Act or covered by the JRA, see “Record Access Procedures” above.

NOTIFICATION PROCEDURES:

See “Record Access Procedures” above.

EXEMPTIONS PROMULGATED FOR THE SYSTEM:

None.

HISTORY:

Not applicable.

Issued in Washington, DC.
Karyn Gorman,
Acting Departmental Chief Privacy Officer.

[FR Doc. 2022-15145 Filed 7-14-22; 8:45 am]

BILLING CODE 4910-9X-P